DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of August 22, 2016 through September 2, 2016.

In order for an affirmative determination to be made for workers of a primary firm and a certification issued regarding eligibility to apply for worker adjustment assistance, each of the group eligibility requirements of Section 222(a) of the Act must be met.

I. Under Section 222(a)(2)(A), the following must be satisfied:

(1) a significant number or proportion of the workers in such workers' firm have become totally or partially separated, or are threatened to become totally or partially separated;

(2) the sales or production, or both, of such firm have decreased absolutely; and

(3) One of the following must be satisfied:

(A) imports of articles or services like or directly competitive with articles produced or services supplied by such firm have increased;

(B) imports of articles like or directly competitive with articles into which one or more component parts produced by such firm are directly incorporated, have increased;

(C) imports of articles directly incorporating one or more component parts produced outside the United States that are like or directly competitive with imports of articles incorporating one or more component parts produced by such firm have increased;

(D) imports of articles like or directly competitive with articles which are produced directly using services supplied by such firm, have increased; and

(4) the increase in imports contributed importantly to such workers' separation or threat of separation and to the decline in the sales or production of such firm; or

II. Section 222(a)(2)(B) all of the following must be satisfied:

(1) a significant number or proportion of the workers in such workers' firm have become totally or partially separated, or are threatened to become totally or partially separated;

(2) One of the following must be satisfied:

(A) there has been a shift by the workers' firm to a foreign country in the production of articles or supply of services like or directly competitive with those produced/supplied by the workers' firm;

(B) there has been an acquisition from a foreign country by the workers' firm of articles/services that are like or directly competitive with those produced/supplied by the workers' firm; and

(3) the shift/acquisition contributed importantly to the workers' separation or threat of separation.

In order for an affirmative determination to be made for adversely affected secondary workers of a firm and a certification issued regarding eligibility to apply for worker adjustment assistance, each of the group eligibility requirements of Section 222(b) of the Act must be met.

(1) a significant number or proportion of the workers in the workers' firm have become totally or partially separated, or are threatened to become totally or partially separated;

(2) the workers' firm is a Supplier or Downstream Producer to a firm that employed a group of workers who received a certification of eligibility under Section 222(a) of the Act, and such supply or production is related to the article or service that was the basis for such certification; and

(3) either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(e) of the Act must be met.

(1) the workers' firm is publicly identified by name by the International Trade Commission as a member of a domestic industry in an investigation resulting in—

(A) an affirmative determination of serious injury or threat thereof under section 202(b)(1);

(B) an affirmative determination of market disruption or threat thereof under section 421(b)(1); or

(C) an affirmative final determination of material injury or threat thereof under section 705(b)(1)(A) or 735(b)(1)(A) of the Tariff Act of 1930 (19 U.S.C. 1671d(b)(1)(A) and 1673d(b)(1)(A));

(2) the petition is filed during the1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) the workers have become totally or partially separated from the workers' firm within—

(A) the 1-year period described in paragraph (2); or

(B) not withstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
91,209 | L&M Radiator, Inc., Always There Staffing, Inc | Hibbing, MN | December 9, 2014.
91,639 | FMC Technologies Measurement Solutions, Inc., Measurement Products Division, FMC Technologies, Inc., Remedy Staffing, etc | Erie, PA | March 29, 2015.
91,741 | Precision Computer Services, Inc., Kenzie & Company, LLC and Advantage Technical Resourcing | Shelton, CT | April 22, 2015.
91,758 | Alexander & Baldwin, LLC, Hawaiian Commercial & Sugar Company, Alexander & Baldwin, Exceptional Inc | Puunene, HI | April 26, 2015.
91,758A | Alexander & Baldwin, LLC, Hawaiian Commercial & Sugar Company, Alexander & Baldwin, Exceptional Inc | Puunene, HI | November 17, 2016.
91,804 | American Grass Seed Producers | Tangent, OR | May 12, 2015.
91,804A | Stalford Seed Farm | Tangent, OR | May 12, 2015.
91,845 | Olympic Panel Products LLC, New Wood Resources LLC, Express Employment Professionals | Shelton, WA | May 24, 2015.

The following certifications have been issued. The requirements of Section 222(a)(2)(B) (shift in production or services) of the Trade Act have been met.

TA-W No. | Subject firm | Location | Impact date
91,143 | Citizens Bank, NA, Citizens Financial Group, Infrastructure Services Division, Bridge, etc | Riverside, RI | November 16, 2014.
91,143A | Citizens Bank, NA, Citizens Financial Group, Infrastructure Services Division, Bridge, etc | Cranston, RI | November 16, 2014.
91,380 | Gardner Denver Nash, LLC, R&D Engineering Department, The Marine Group, Gardner Denver Inc | Trumbull, CT | January 22, 2015.
91,598 | Qualcomm Technologies, Inc., Product and Test Engineering Division, Qualcomm, Inc | San Diego, CA | March 15, 2015.
91,638 | EMC Corporation, Disk Library for Mainframe (DLM) Division | Hopkinton, MA | June 5, 2015.
91,638A | On-Site Leased Workers from Advantage Technical Resources, IGATE (Now Capgemini), and TATA America reporting to EMC Corporation, etc | Hopkinton, MA | March 29, 2015.
91,644 | Qualcomm Technologies, Inc., Technical Publications Group, Qualcomm, Inc | San Diego, CA | March 18, 2015.
91,644A | Qualcomm Technologies, Inc., Technical Publications Group, Qualcomm, Inc | San Jose, CA | March 18, 2015.
91,645 | ITT Corporation—Interconnect Solutions, ITT Cannon LLC, ITT Corporation | Santa Ana, CA | December 12, 2016.
91,778 | Fujitsu America, Inc., Retail Managed Services and Technical Maintenance Services, etc | Richardson, TX | May 4, 2015.
91,778A | Fujitsu America, Inc., Retail Managed Services and Technical Maintenance Services, etc | Schaumburg, IL | May 4, 2015.
91,782 | Veris Industries, Schneider Electric USA, KForce Inc., Express Services Inc., etc | Tualatin, OR | May 5, 2015.
91,921 | Centrex Revenue Solutions, LLC, Integra Connect, LLC, Randstad Temporary Services | Ellicott City, MD | June 14, 2015.
91,927 | DIRECTV Customer Services, Inc., DIRECTV Care Division, AT&T, Inc., Sitel, Convergys, Alorica, VXI, TPUSA | Tulsa, OK | June 15, 2015.
91,945 | Kennametal, Inc | Houston, TX | June 21, 2015.
91,952 | Maersk Agency USA Inc., Maersk Group, Customer Service, Operations, Marketing Divisions | Charlotte, NC | May 26, 2015.
91,952A | Maersk Agency USA Inc., Maersk Group, Finance, Customer Service, Operations, Marketing Divisions | Oakbrook Terrace, IL | May 26, 2015.
91,952B | Maersk Agency USA Inc., Maersk Group, Customer Service, Operations, Marketing Divisions | Florham Park, NJ | May 26, 2015.
91,952C | Maersk Agency USA Inc., Maersk Group, Operations, Marketing Divisions | The Woodlands, TX | May 26, 2015.
91,984 | EMC Corporation, Resource Management Division | Hopkinton, MA | July 5, 2015.
91,994 | Strippit, Inc., LVD Company NV, Durham Staffing, Inc., and SelectOne | Akron, NY | May 21, 2016.
91,994A | JaniMart Janitorial Sales & Services and AppleOne, Strippit, Inc., LVD Company NV | Akron, NY | July 1, 2015.
92,002 | Havells USA, Inc., Havells India Limited, Randstad | Atlanta, GA | July 8, 2015.
92,005 | CTS Corporation, Specialized Staffing, Manpower, Aerotek, Personnel Partners, etc | Elkhart, IN | July 8, 2015.
92,033 | Viskase Companies, Inc., Staffmark | Osceola, AR | July 19, 2015.
92,095 | 360training.com, Inc., 360training.com | El Segundo, CA | August 8, 2015.
92,118 | CVG Alabama, LLC, Global Truck and Bus Segment, Commercial Vehicle Group, Inc., etc | Piedmont, AL | June 24, 2015.

The following certifications have been issued. The requirements of Section 222(b) (supplier to a firm whose workers are certified eligible to apply for TAA) of the Trade Act have been met.

TA-W No. | Subject firm | Location | Impact date
90,287 | Blackhawk Engineering, Inc., EXX, Inc | Cedar Falls, IA | January 1, 2014.
91,298 | Furin & Shea Welding & Fabricating, Inc., Always There Staffing, Inc., Express Services, Inc | Hibbing, MN | January 6, 2015.
91,305 | Waste Management of Oregon, Pacific NW Division | Newberg, OR | January 7, 2015.
91,967 | Prime Electric Motors, Inc., Bonney Staffing | Gorham, ME | June 27, 2015.
92,085 | T. Bruce Sales, Inc | West Middlesex, PA | August 3, 2015.

Negative Determinations for Worker Adjustment Assistance

In the following cases, the investigation revealed that the eligibility criteria for worker adjustment assistance have not been met for the reasons specified.

The investigation revealed that the criteria under paragraphs (a)(2)(A)(i) (decline in sales or production, or both) and (a)(2)(B) (shift in production or services to a foreign country) of section 222 have not been met.

TA-W No. | Subject firm | Location | Impact date
91,107 | Hartzell Veneer Products LLC, Hartzell Veneer International LLC, US Staffing and Elwood Staffing | Hillsdale, MI

The investigation revealed that the criteria under paragraphs (a)(2)(A) (increased imports) and (a)(2)(B) (shift in production or services to a foreign country) of section 222 have not been met.

TA-W No. | Subject firm | Location | Impact date
90,324 | Embarq Management Company/United Telephone of Pennsylvania, Embarq Corporation, CenturyLink, Inc | Carlisle, PA
90,328 | Dixie Consumer Products, LLC, Georgia Pacific, Aerotek Staffing Agency | Parchment, MI
90,338 | Unverferth Manufacturing Company, Inc | Shell Rock, IA
91,153 | Horizon Mud Company, Inc., Irvin Wellsite Consultants, LLC | Midland, TX
91,398 | K Building Components, Inc | Hibbing, MN
91,401 | William J. Schwartz & Son, Inc | Bovey, MN
91,463 | Volvo Trucks North America, New River Valley Facility, Volvo Trucks, Additional Technical Support, etc | Dublin, VA
91,526 | Fairmont Supply Company, Formerly Fairmont Supply Oil and Gas, LLC | Troy, PA
91,787 | Jersey Shore Steel Company | Jersey Shore, PA

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
91,637 | Georgia Chair Company | Gainesville, GA
91,805 | Greenwillow Grains, LLC | Tangent, OR
92,036 | Illinois Tool Works, Inc | New Berlin, WI

The following determinations terminating investigations were issued because the petitioning groups of workers are covered by active certifications. Consequently, further investigation in these cases would serve no purpose since the petitioning group of workers cannot be covered by more than one certification at a time.

TA-W No. | Subject firm | Location | Impact date
91,711 | Broadcom Limited, Avago Technologies Limited | Norcross, GA
91,806 | Stalford Seed Farm | Tangent, OR
91,870 | International Business Machines (IBM), Global Technology Services (GTS), Collabera, Artech, CDI, Infinite | Endicott, NY
91,870A | International Business Machines (IBM), Global Technology Services (GTS), Collabera, Artech, CDI, Infinite | Omaha, NE
91,972 | Sensata Technologies, Inc., Staffmark, Signature Consultants, Aerotek | Springfield, TN

I hereby certify that the aforementioned determinations were issued during the period of August 22, 2016 through September 2, 2016. These determinations are available on the Department's Web site https://www.doleta.gov/tradeact/taa/taa_search_form.cfm under the searchable listing determinations or by calling the Office of Trade Adjustment Assistance toll free at 888-365-6822.

Signed at Washington, DC, this 18th day of November 2016.
Hope D. Kinglock
Certifying Officer, Office of Trade Adjustment Assistance.

[FR Doc. 2016-28910 Filed 12-1-16; 8:45 am]

BILLING CODE 4510-FN-P